DEPARTMENT OF TRANSPORTATION

Federal Highway Administration

Notice of Final Federal Agency Actions on Proposed Bridge Replacement in Hawaii

AGENCY: Federal Highway Administration (FHWA), DOT.

ACTION: Notice of limitation on claims for judicial review of actions by FHWA and other Federal agencies.

SUMMARY: This notice announces actions taken by FHWA and other Federal agencies that are final. The actions relate to the Farrington Highway, Replacement of Makaha Bridges No. 3 and No. 3A project located in Makaha, in the State of Hawai'i. These actions grant licenses, permits, and approvals for the project.

DATES: By this notice, FHWA is advising the public of final agency actions subject to 23 U.S.C. 139(1). A claim seeking judicial review of the Federal agency actions on the listed highway project will be barred unless the claim is filed on or before July 6, 2020. If the Federal law that authorizes judicial review of a claim provides a time period of less than 150 days for filing such claim, then that shorter time period still applies.

FOR FURTHER INFORMATION CONTACT: Ralph Rizzo, Division Administrator, Federal Highway Administration, 300 Ala Moana Boulevard, Box 50206, Honolulu, Hawaii 96850, Telephone: (808) 541-2700; or Marshall Ando, Highways Administrator, State of Hawaii Department of Transportation, 869 Punchbowl Street, Honolulu, Hawaii 96813, Telephone: (808) 587-2220;

SUPPLEMENTARY INFORMATION: Notice is hereby given that FHWA and other Federal agencies have taken final agency actions by issuing licenses, permits, and approvals for the following: The Farrington Highway, Replacement of Makaha Bridges No. 3 and No. 3A involves the replacement of two existing wooden bridges along Farrington Highway, Route 93, between milepost markers 13.95 and 14.21 in Makaha on the Waianae Coast of Oahu. The existing bridges, which were constructed in 1937, support two 11-foot lanes with a 2-foot shoulder on one side and 1-foot shoulder on the other. The new bridges will support two 12-foot lanes and 10-foot wide shoulders to accommodate pedestrians and bicyclists.

These actions by the Federal agencies, and the laws under which such actions were taken, are described in the Categorical Exclusion (CE), and in other documents in the FHWA administrative record. The CE and other documents in the FHWA administrative record are available by contacting the Hawaii Department of Transportation or FHWA at the addresses provided above.

This notice applies to all Federal agency decisions on the project as of the issuance date of this notice and all laws under which such actions were taken, including but not limited to:

1. General: National Environmental Policy Act [42 U.S.C. 4321-4351]; Federal-Aid Highway Act [23 U.S.C. 109, as amended by FAST Act Section 1404(a), Public Law 114-94, and 23 U.S.C. 128]. Council on Environmental Quality regulations (40 CFR 1500 et seq, 23 CFR 771].

2. Air: Clean Air Act, as amended [(42 U.S.C. 7401 et seq. (Transportation Conformity, 40 CFR part 93)].

3. Land: Section 4(f) of the Department of Transportation Act of 1966 [49 U.S.C. 303 and 23 U.S.C. 138; 23 CFR part 774]; Landscaping and Scenic Enhancement (Wildflowers) [23 U.S.C. 319].

4. Wildlife: Endangered Species Act [16 U.S.C. 1531-1544 and Section 1536]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [(54 U.S.C. 306108 et seq.]; Archaeological Resources Protection Act of 1979 [16 U.S.C. 470(aa)-470mm]; Archaeological and Historic Preservation Act [16 U.S.C. 469-469c]; Native American Grave Protection and Repatriation Act [25 U.S.C. 3001 et seq.].

6. Social and Economic: Civil Rights Act of 1964 [42 U.S.C. 2000d et seq.]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251 et seq.); Coastal Zone Management Act [16 U.S.C. 1451-1464]; Land and Water Conservation Fund Act [16 U.S.C. 4601-4604]; Safe Drinking Water Act [42 U.S.C. 300(f)-300G)(6)]; Rivers and Harbors Act of 1899 [33 U.S.C. 401-406]; Wetlands Mitigation [23 U.S.C. 119(g)].

8. Executive Orders: E.O. 11990 Protection of Wetlands; E.O. 11988 and 13690, Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(1)(1).

Issued on: January 22, 2020.
Ralph Rizzo,
Division Administrator, Honolulu, HI.

[FR Doc. 2020-02007 Filed 2-6-20; 8:45 am]

BILLING CODE 4910-RY-P